DEPARTMENT OF HEALTH AND HUMAN SERVICES

Administration for Children and Families

Proposed Information Collection Activity; Evaluation of LifeSet (OMB #0970-0577)

AGENCY: Office of Planning, Research, and Evaluation; Administration for Children and Families, Department of Health and Human Services.

ACTION: Request for public comments.

SUMMARY: The Administration for Children and Families (ACF) at the U.S. Department of Health and Human Services is proposing additional information collection activities to assess the implementation of LifeSet, a program that provides services and supports to young adults ages 17 to 21 with previous child welfare involvement. Current data collection activities are approved under this same Office of Management and Budget (OMB) #: 0970-0577.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION: Description: The proposed information collection activities are part of the second phase of a study that intends to assess the impact and implementation of LifeSet, a program that provides services and supports to young adults ages 17 to 21 with previous child welfare involvement. The program aims to support young adults in their transition from foster care to independent living in the areas of education, employment and earnings, housing and economic well-being, social support, well-being, health and safety, and criminal involvement. It focuses on helping young adults identify and achieve their goals while developing the skills necessary for independent living.

The evaluation is part of a larger project to help ACF build the evidence base in child welfare through rigorous evaluation of programs, practices, and policies. The activities and products from this project will contribute to evidence building in child welfare and help to determine the effectiveness of a program for youth formerly in foster care on young adult outcomes.

The implementation study will collect information through video conferences and site visits to the participating program and child welfare agency. Data collection activities for the implementation study began, as previously approved by OMB. Additional protocols are proposed as part of the implementation study. Proposed information collection activities include interviews and focus groups with administrators and staff from the program developer, child welfare agency, and program providers; online survey of program staff; interviews with youth who participated in the program; and focus groups with youth who participated in the program and who received services as usual.

Respondents: Program participants, young adults receiving services as usual, agency and program administrators and staff, other program stakeholders.

Annual Burden Estimates
Instrument | Respondents | Number of respondents (total over request period) | Number of responses per respondent (total over period) | Avgerage burden per response (in hours) | Total burden (in hours) | Annual burden (in hours)
Burden for previously approved, ongoing data collection
Baseline Youth Survey | Youth Formerly in Foster Care | 470 | 1 | 0.6 | 282 | 141
Administrative data file | Agency and Program Staff | 12 | 1 | 5 | 60 | 30
Burden for newly requested information collection
Site Visit 3 Interview Guide for Administrators | Child Welfare Agency Administrators Licensed LifeSet Experts Provider Agency Administrators LifeSet Developer Administrators | 22 | 1 | 1 | 22 | 11
Site Visit 3 Focus Group Guide for Staff | LifeSet Specialists LifeSet Team Supervisors Child Welfare Agency Caseworkers | 28 | 1 | 1.5 | 42 | 21
LifeSet Specialist Survey | LifeSet Specialists | 16 | 1 | .3 | 5 | 2.5
Interview Guide for Youth | LifeSet Program Youth | 12 | 1 | 1 | 12 | 6
Focus Group Guide for Youth | LifeSet Program Youth Services As Usual Youth | 64 | 1 | 1.5 | 96 | 48
Screening Recruitment Phone Call Script | LifeSet Program Youth Services As Usual YouthServices As Usual Youth | 90 | 1 | 0.25 | 22.5 | 11

Estimated Total Annual Burden Hours: 270.5.

Authority: 42 U.S.C. 677.

Mary B. Jones,
ACF/OPRE Certifying Officer.

[FR Doc. 2022-24976 Filed 11-15-22; 8:45 am]

BILLING CODE 4184-25-P